DEPARTMENT OF HOMELAND SECURITY

Coast Guard

33 CFR Part 165

[Docket Number USCG-2025-0850]

RIN 1625-AA00

Safety Zone; Naval Salvage Operation, Apra Harbor, GU

AGENCY: Coast Guard, Department of Homeland Security.

ACTION: Temporary final rule.

SUMMARY: The Coast Guard is establishing a temporary safety zone for certain navigable waters of Apra Harbor, Guam and adjacent Philippine Sea. The moving safety zone will include all navigable waters within 100 yards of the USNS SALVOR and M/V VOYAGER during Dead Ship Tow operations. This action is necessary to protect personnel, vessels, and the marine environment from potential hazards associated with the salvage, towing, and disposal of an abandoned, derelict vessel. Entry of vessels or persons into this zone is prohibited unless specifically authorized by the Captain of the Port, Guam.

DATES: This rule is effective without actual notice from September 16, 2025 through October 7, 2025. For the purposes of enforcement, actual notice will be used from September 15, 2025 until September 16, 2025. It is subject to enforcement while the USNS SALVOR is engaged in vessel salvage operations.

ADDRESSES: To view available documents, go to https://www.regulations.gov and search for USCG-2025-0850.

FOR FURTHER INFORMATION CONTACT: If you have questions about this notification of enforcement, call, or email LT James DeInnocentiis, Forces Micronesia/Sector Guam Waterways Management Division; telephone 671-355-4800, email wwmguam@uscg.mil.

SUPPLEMENTARY INFORMATION:

I. Table of Abbreviations

CFR Code of Federal Regulations

COTP Captain of the Port

DHS Department of Homeland Security

FR Federal Register

NPRM Notice of proposed rulemaking

§ Section

U.S.C. United States Code

II. Background and Authority

The Coast Guard received notification that the USNS SALVOR will be conducting vessel salvage operations in the vicinity of Piti Channel, Apra Harbor. As part of the salvage, the USNS SALVOR will be relocating the M/V VOYAGER, under Dead Ship Tow, from its current grounded position to a designated ocean disposal site approximately 20 nautical miles Northwest of Guam. The Captain of the Port (COTP) Guam has determined that potential hazards associated with the salvage operation are a safety concern for anyone within 100 yards of the active tow.

Therefore, the COTP is issuing this rule under the authority in 46 U.S.C. 70034, which is needed to protect personnel, vessels, and the marine environment in the navigable waters within the safety zone.

The Coast Guard is issuing this rule without prior notice and comment. As is authorized by 5 U.S.C. 553(b)(B), the Coast Guard finds that good cause exists for not publishing a notice of proposed rulemaking (NPRM) with respect to this rule because it is impracticable and contrary to the public interest. The Coast Guard was notified of this salvage operation on September 8, 2025, and we must establish this safety zone by September 15, 2025, to protect personnel, vessels, and the marine environment. Therefore, we have do not have enough time to solicit and respond to comments. Delaying the effective date for this safety zone to complete the NPRM process also would be contrary to the public interest as it would delay the safety measures vital to safe navigation.

For the same reasons, the Coast Guard finds that under 5 U.S.C. 553(d)(3), good cause exists for making this rule effective less than 30 days after publication in the Federal Register. Delaying the effective date for this rule is impracticable because prompt action is needed to respond to the potential safety hazards associated with the salvage operation.

III. Discussion of the Rule

This rule establishes a safety zone while the USNS SALVOR intermittently has the M/V VOYAGER under Dead-Ship tow during the Naval salvage operation occurring from September 15, 2025, through October 07, 2025. The safety zone will encompass all navigable waters within a 100-yard radius surrounding both vessels. During the periods when it is subject to enforcement, the duration of the zone will be announced via Broadcast Notice to Mariners and is intended to protect personnel, vessels, and the marine environment during hazardous portions of the salvage operation while continuing to facilitate normal port operations. No vessel or person will be permitted to enter the moving safety zone without obtaining permission from the COTP or their designated representative.

IV. Regulatory Analyses

We developed this rule after considering numerous statutes and Executive orders related to rulemaking. Below we summarize our analyses based on a number of these statutes and Executive orders.

A. Impact on Small Entities

The regulatory flexibility analysis provisions of the Regulatory Flexibility Act of 1980, 5 U.S.C. 601-612, do not apply to rules that are not subject to notice and comment. Because the Coast Guard has, for good cause, waived the notice and comment requirement that would otherwise apply to this rulemaking, the Regulatory Flexibility Act's flexibility analysis provisions do not apply here.

Under section 213(a) of the Small Business Regulatory Enforcement Fairness Act of 1996 (Pub. L. 104-121), if this rule will affect your small business, organization, or governmental jurisdiction and you have questions, contact the person listed in the FOR FURTHER INFORMATION CONTACT section.

Small businesses may send comments to the Small Business and Agriculture Regulatory Enforcement Ombudsman and the Regional Small Business Regulatory Fairness Boards by calling 1-888-REG-FAIR (1-888-734-3247). The Coast Guard will not retaliate against small entities that question or complain about this rule or any policy or action of the Coast Guard.

B. Collection of Information

This rule will not call for a new collection of information under the Paperwork Reduction Act of 1995 (44 U.S.C. 3501-3520).

C. Federalism and Indian Tribal Governments

We have analyzed this rule under Executive Order 13132, Federalism, and have determined that it is consistent with the fundamental federalism principles and preemption requirements described in that Order.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

D. Unfunded Mandates Reform Act

As required by The Unfunded Mandates Reform Act of 1995 (2 U.S.C. 1531-1538), the Coast Guard certifies that this rule will not result in an annual expenditure of $100,000,000 or more (adjusted for inflation) by a State, local, or tribal government, in the aggregate, or by the private sector.

E. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment.

This rule is a safety zone. It is categorically excluded from further review under paragraph L60(c) of Appendix A, Table 1 of DHS Instruction Manual 023-01-001-01, Rev. 1, because we must get the safety zone into effect before imminent salvage operations begin.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 46 U.S.C. 70034, 70051, 70124; 33 CFR 1.05-1, 6.04-1, 6.04-6, and 160.5; Department of Homeland Security Delegation No. 00170.1, Revision No. 01.4.

2. Add § 165.T14-0850 to read as follows:

§ 165.T14-0850 Safety Zone; Naval Salvage Operation, Apra Harbor, GU.

(a) Location. The following area is a moving safety zone: All navigable waters within a 100-yard radius surrounding the USNS SALVOR and M/V VOYAGER as it transits within the U.S. Coast Guard Forces Micronesia/Sector Guam COTP Zone, as described in 33 CFR 3.70-15.

(b) Definitions. As used in this section, designated representative means a Coast Guard Patrol Commander, including a Coast Guard coxswain, petty officer, or other officer operating a Coast Guard vessel and a Federal, State, or local officer designated by or assisting the COTP in the enforcement of the safety zone.

(c) Regulations. (1) Under the general safety zone regulations in subpart C of this part, you may not enter the safety zone described in paragraph (a) of this section unless authorized by the COTP or their designated representative.

(2) To seek permission to enter or transit through the zone, contact the COTP or their designated representative via VHF Channel 16 or by phone at 671-355-4800. Those within the safety zone must comply with all lawful orders or directions given to them by the COTP or their designated representative.

(d) Enforcement period. This section will be enforced for designated periods of time, while the USNS SALVOR is engaged in vessel salvage operations, on days requested by the Navy. The Coast Guard will inform mariners of the enforcement period via a Marine Safety Information Bulletin, Local Notice to Mariners, or Broadcast Notice to Mariners.

Jessica S. Worst,
Captain, U.S. Coast Guard, Captain of the Port, U.S. Coast Guard Forces Micronesia/Sector Guam.

[FR Doc. 2025-17841 Filed 9-15-25; 8:45 am]

BILLING CODE 9110-04-P